DEPARTMENT OF TRANSPORTATION

Federal Aviation Administration

14 CFR Part 71

[Docket No. FAA-2025-4543; Airspace Docket No. 25-ANM-144]

RIN 2120-AA66

Modification of Class E Airspace; Driggs/Reed Memorial Airport, Driggs, ID

AGENCY: Federal Aviation Administration (FAA), DOT.

ACTION: Final rule.

SUMMARY: This action modifies the Class E airspace extending upward from 700 feet above the surface at Driggs/Reed Memorial Airport, Driggs, ID. Additionally, this action updates the administrative portion of the airport's Class E airspace legal description. These actions support the safety and management of instrument flight rules (IFR) operations at the airport.

DATES: Effective date 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Driggs/Reed Memorial Airport, Driggs, ID.

History

The FAA published an NPRM for Docket No. FAA-2025-4543 in the Federal Register (90 FR 53248; November 25, 2025), proposing to modify the Class E airspace at Driggs/Reed Memorial Airport, Driggs, ID. Interested parties were invited to participate in this rulemaking effort by submitting written comments on the proposal to the FAA. No comments were received.

Differences From the NPRM

The FAA identified a typographical error within the NPRM after publication. A portion of the Class E airspace legal description proposed for Driggs/Reed Memorial Airport, Driggs, ID, was described as being “within an area 1.2 miles northwest and 3.4 miles southeast of the airport's 028° bearing extending to its 5.8-mile radius.” The phrase is corrected to read “5.7-mile radius” within the Final Rule.

Incorporation by Reference

Class E5 airspace designations are published in paragraph 6005 of FAA Order JO 7400.11, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

The FAA amends 14 CFR part 71 by modifying the Class E airspace extending upward from 700 feet above the surface at Driggs/Reed Memorial Airport, ID. The Class E airspace surrounding the airport is reduced due to modifications made to the airport's instrument flight procedures (IFP) that allow for more condensed containment within controlled airspace.

The northern extension is narrowed by 4.3 miles and shortened by 5.5 miles to more appropriately contain the Area Navigation (RNAV) (Global Positioning System [GPS])-A approach procedure. The southwest extension is narrowed by 1.3 miles, shortened by 1.3 miles, and shifted a half mile west to more appropriately contain the RNAV (GPS) Runway 4 approach procedure. The southeastern third of the existing airspace is removed, as it is no longer needed for the containment of IFPs. The western portion of the airspace is removed beyond the airport's 4.8-mile radius, approximately between the airport's 220° and 315° radials, as it is no longer needed for IFP containment.

Finally, the airport's geographic location within its Class E airspace legal description is updated to match the FAA's database.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures,” paragraph B-2.5. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11K, Airspace Designations and Reporting Points, dated August 4, 2025, and effective September 15, 2025, is amended as follows:

Paragraph 6005 Class E Airspace Areas Extending Upward From 700 Feet or More Above the Surface of the Earth.

* * * * *

ANM ID E5 Driggs, ID [Amended]

Driggs/Reed Memorial Airport, ID

(Lat. 43°44′47″ N, long. 111°05′29″ W)

That airspace extending upward from 700 feet above the surface within an area 1.2 miles northwest and 3.4 miles southeast of the airport's 028° bearing extending to its 5.7-mile radius, within an area 3.4 miles southeast and 2.7 miles northwest of the airport's 208° bearing extending to 11.7 miles southwest, within an area between the airport's 241° bearing clockwise to its 326° bearing extending to the airport's 4.8-mile radius, and within an area 1.7 miles west and 3 miles east of the airport's 345° bearing extending to 8.9 miles north of the airport.

* * * * *

Issued in Des Moines, Washington, on January 26, 2026.
B.G. Chew,
Group Manager, Operations Support Group, Western Service Center.

[FR Doc. 2026-01771 Filed 1-28-26; 8:45 am]

BILLING CODE 4910-13-P